DEPARTMENT OF COMMERCE

National Oceanic and Atmospheric Administration

50 CFR Part 648

[Docket No. 001121328-1041-02; I.D. 111500C]

Fisheries of the Northeastern United States; Summer Flounder, Scup, and Black Sea Bass Fisheries; Adjustments to the 2001 Summer Flounder, Scup, and Black Sea Bass Commercial Quotas

AGENCY: National Marine Fisheries Service (NMFS), National Oceanic and Atmospheric Administration (NOAA), Commerce.

ACTION: Commercial quota adjustment; correction.

SUMMARY: NMFS publishes corrected adjustments to the 2001 commercial quotas for summer flounder, scup, and black sea bass. This action is necessary to comply with the regulations that implement the Fishery Management Plan for the Summer Flounder, Scup, and Black Sea Bass Fisheries (FMP), which specify that any summer flounder landings in excess of or less than a given state’s individual 2000 commercial quota be deducted from or added to that state’s quota for 2001. For scup and black sea bass, the FMP specifies that landings in excess of a quota for a given period or quarter be deducted from the quota for the same period or quarter in the following year. The intent of this action is to use the most accurate landings data to make adjustments to a state’s annual quota and to correct errors in previous quota adjustments to provide fishermen the opportunity to harvest the quota available without harvesting fish in excess of the quota and requiring reduced catches in future quotas.

DATES: Effective September 7, 2001, through December 31, 2001.

FOR FURTHER INFORMATION CONTACT: Paul H. Jones, Fisheries Policy Analyst, (978) 281-9273, fax (978) 281-9135, e-mail paul.h.jones@noaa.gov.

SUPPLEMENTARY INFORMATION:

Background

At 66 FR 12902, March 1, 2001, and at 66 FR 16151, March 23, 2001, NMFS published final specifications for the 2001 scup and black sea bass; and summer flounder, fisheries, respectively, which included preliminary 2000 landings and 2001 quota adjustments. Further adjustments are made to the 2001 quotas through this notification, to account for audited 2000 summer flounder, scup, and black sea bass landings data from the states and for inadvertent errors in the preliminary 2000 quota adjustments.

Summer Flounder

The 2000 quota, reported 2000 landings, and the resulting 2000 overages and underages for all states for summer flounder are given in corrected summer flounder Table 2 in this document. The following states recorded 2000 landings of summer flounder that differ from those reported in the March 23, 2001, final rule, by the following amounts: MA, -1,506 lb (683 kg); RI, +9,310 lb (4,223 kg); CT, +5,520 lb (2,504 kg); NY, -37,048 lb (16,805 kg); NJ, -305,513 lb (138,578 kg); MD, -9,456 lb (4,289 kg); and VA, -19,477 lb (8,835 kg). While the State of NC reported additional landings, this action makes no quota adjustments because it is forbidden by a Court Order (North Carolina Fisheries Association v.Evans, July 30, 2001).

The resulting corrected and adjusted 2001 commercial quota for each state is given in corrected summer flounder Table 3 of this document.

Scup

The 2000 quotas (by period), reported 2000 landings (by period) and resulting overages for scup for all periods are given in corrected scup Table 2 of this document. Changes in 2000 landings from those reported in the March 1, 2001, final rule are as follows: Winter I, +17,661 lb (8,011 kg); Summer, +19,029 lb (8,631 kg); and Winter II, -357 lb (162 kg). This information resulted in total overages and resulting decreases to the 2001 Winter I and Summer quotas by 346,999 lb (157,396 kg) and 602,340 lb (273, 217 kg), respectively.

The resulting adjusted 2001 quota for each period is given in corrected scup Table 3 of this document.

Black Sea Bass

The 2000 quotas (by quarter), reported 2000 landings (by quarter) and resulting overages for black sea bass for all quarters are given in corrected black sea bass Table 5 of this document. Changes in 2000 landings from those reported in the March 1, 2001, final rule are as follows: Quarter 1, -555 lb (252 kg); Quarter 2, +33,577 lb (15,230 kg); Quarter 3, -35,027 lb (15,888 kg); and Quarter 4, -58,292 lb (26,441 kg). This information resulted in total overages and resulting decreases to the 2001 Quarter 2, 3, and 4 quotas by 239,098 lb (108,453 kg), 61,049 lb (27,691 kg), and 22,760 lb (10,324 kg), respectively.

The resulting adjusted 2001 quota for each quarter is given in corrected black sea bass Table 6 of this document.

Corrections

1. In the document published at 66 FR 16151, March 23, 2001, the following corrections are made:

On page 16153, Tables 2 and 3 are revised in their entirety as follows:

Table 2. Summer Flounder Preliminary 2000 Landings by State
State | 2000 Quota¹: lb | 2000 Quota¹: kg² | Preliminary 2000 landings: lb | Preliminary 2000 landings: kg² | 2000 Overages and Underages³: lb | 2000 Overages and Underages³: kg²
ME | 3,956 | 1,794 | 6,922 | 3,140 | 2,966 | 1,345
NH | 51 | 23 | 0 | 0 | (51)³ | (23)³
MA | 703,136 | 318,937 | 788,998 | 357,883 | 85,862 | 38,946
RI | 1,742,566 | 790,415 | 1,703,593 | 772,737 | (38,973)³ | (17,678)³
CT | 244,085 | 110,715 | 245,148 | 111,197 | (1,063) | (482)
NY | 849,672 | 385,405 | 836,936 | 379,628 | (12,736)³ | (5,777)³
NJ | 1,794,299 | 813,880 | 1,848,119 | 838,293 | 53,820 | 24,412
DE | (31,303)⁴ | (14,199)⁴ | 12,317 | 5,587 | 43,620 | 19,786
MD | 226,568 | 102,770 | 251,751 | 114,192 | 25,183 | 11,423
VA | 2,293,410 | 1,040,273 | 2,206,715 | 1,000,949 | (86,695)³ | (39,324)³
NC | 3,049,560 | 1,383,257 | 3,347,841⁵ | 1,518,555 | 298,281 | 135,298
Total | 10,876,000 | 4,933,271 | 11,248,340 | 5,102,161 |  |
¹Reflects quotas as published on December 29, 2000 (65 FR 82945).
²Kilograms as converted from pounds and may not add to the converted total due to rounding.
³Numbers in parentheses are underages.
⁴Parentheses indicate a negative number.
⁵State of NC reports that 3,386,578 lb were landed; further quota adjustment forbidden by Court Order

Table 3. Summer Flounder Final 2001 Adjusted Quotas
State | 20001 Initial quota: lb | 20001 Initial quota: kg¹ | 2001 Adjusted quota: lb | 2001 Adjusted quota: kg¹
ME | 5,112 | 2,319 | 2,146 | 973
NH | 49 | 22 | 100 | 45
MA | 733,031 | 332,497 | 647,169 | 293,551
RI | 1,685,534 | 764,545 | 1,724,507 | 782,223
CT | 242,580 | 110,032 | 241,517 | 109,550
NY | 821,863 | 372,791 | 834, 599 | 378,568
NJ | 1,797,524 | 815,343 | 1,743,704 | 790,931
DE | 1,912 | 867 | (41,708) | (18,918)
MD | 219,153 | 99,406 | 193,970 | 87,983
VA | 2,291,026 | 1,039,192 | 2,377,721 | 1,078,516
NC | 2,949,751 | 1,337,985 | 2,651,470 | 1,202,687
Total² | 10,747,535 | 4,875,000 | 10,416,903 | 4,725,028
Note: Parentheses indicate a negative number.
¹ Kilograms are as converted from pounds and may not add to the converted total due to rounding.
² Total adjusted quota accounts for DE as zero.

2. In the document published at 66 FR 12902, March 1, 2001, the following corrections are made:

On pages 12904, 12905, and 12906, Tables 2, 3, 5, and 6 are revised in their entirety as follows:

Table 2. Scup Preliminary 2000 Landings by Period
Period | 2000 Quota¹: lb | 2000 Quota¹: kg² | 2000 Landings: lb | 2000 Landings: kg² | 2000 Overage: lb | 2000 Overage: kg²
Winter I | 1,037,253 | 470,490 | 1,384,252 | 627,886 | 346,999 | 157,396
Summer | 637,878 | 289,337 | 1,240,218 | 562,553 | 602,340 | 273,217
Winter II | 70,356 | 31,913 | 34,582 | 15,686 | 0 | 0
Total | 1,745,487 | 791,740 | 2,659,052 | 1,206,126 | 949,339 | 430,613
¹ Reflects quotas as published on August 18, 2000 (65 FR 50463).
² Kilograms are as converted from pounds and may not add to the converted total due to rounding.

Table 3. Scup Final 2001 Adjusted Quotas
Period | 2000 Initial Quota: lb | 2000 Initial Quota: kg² | 2000 Adjusted quota¹: lb | 2000 Adjusted quota¹: kg²
Winter I | 2,004,959 | 909,434 | 1,675,960 | 752,038
Summer | 1,731,172 | 785,246 | 1,128,832 | 512,030
Winter II | 708,469 | 321,356 | 708,469 | 321,356
Total | 4,444,600 | 2,016,037 | 3,495,261 | 1,585,424
¹ Possession limits specified in Table 1.
² Kilograms are as converted from pounds and may not add to the converted total due to rounding.

* * * * *

Table 5. Black Sea Bass Preliminary 2000 Landings by Quarter
Period | 2000 Quota: lb | 2000 Quota: kg¹ | 2000 Landings: lb | 2000 Landings: kg¹ | 2000 Overage: lb | 2000 Overage: kg¹
1 | 1,168,760 | 530,141 | 847,463 | 384,403 | 0 | 0
2 | 734,088 | 332,982 | 973,186 | 441,430 | 239,098 | 108,453
3 | 238,795 | 108,317 | 299,844 | 136,007 | 61,049 | 27,691
4 | 490,038 | 222,281 | 512,798 | 232,601 | 22,760 | 10,324
Total | 2,631,681 | 1,193,721 | 2,633,291 | 1,194,441 | 322,907 | 146,468
¹ Kilograms are as converted from pounds and may not add to the converted total due to rounding.

Table 6. Black Sea Bass Final 2001 Adjusted Quotas
Period | 2001 Initial quota: lb | 2001 Initial quota: kg² | 2001 Adjusted quota¹: lb | 2001 Adjusted quota¹: kg²
1 | 1,168,760 | 530,141 | 1,168,760 | 530,141
2 | 885,040 | 401,447 | 645,942 | 292,994
3 | 372,951 | 169,168 | 311,902 | 141,476
4 | 597,991 | 271,244 | 575,231 | 260,920
Total | 3,024,742 | 1,372,000 | 2,701,835 | 1,225,532
¹ Trip limits specified in Table 4.
² Kilograms are as converted from pounds and may not add to the converted total due to rounding.

Classification

This action is required by 50 CFR part 648 and is exempt from review under Executive Order 12866.

Authority: 16 U.S.C. 1801 et seq.

Dated: September 7 , 2001.
Bruce C. Morehead,
Acting Director, Office of Sustainable Fisheries, National Marine Fisheries Service.

[FR Doc. 01-22920 Filed 9-7-01; 3:17 pm]

BILLING CODE 3510-22-S